DEPARTMENT OF COMMERCE

National Oceanic and Atmospheric Administration

RIN 0648-XE481

Marine Mammals; File No. 19706

AGENCY: National Marine Fisheries Service (NMFS), National Oceanic and Atmospheric Administration (NOAA), Commerce.

ACTION: Notice; issuance of permit.

SUMMARY: Notice is hereby given that a permit has been issued to the California State University, Bakersfield [Responsible Party: Antje Lauer, Ph.D.], 9001 Stockdale Highway, Bakersfield, CA 93311-1022, to conduct research on pinnipeds.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Rosa González or Jennifer Skidmore, (301) 427-8401.

SUPPLEMENTARY INFORMATION: On March 22, 2016, notice was published in the Federal Register (55 FR 15248) that a request for a permit to conduct research on pinnipeds had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit authorizes the Permit Holder to (1) receive, import, and export blood sera from up to 500 California sea lions (Zalophus californianus), 25 threatened Guadalupe fur seals (Arctocephalus townsendi), and 25 northern fur seals (Callorhinus ursinus) in rehabilitation annually to perform immunodiffusion assays; and (2) to perform the Spherusol skin test on up to 500 California sea lions in rehabilitation annually. The objective of the permitted activities, as described in the application, is to research Coccidioidomycosis (Valley fever) on stranded marine mammals along California's coast. The goal is to successfully detect animals' exposure to Coccidioides spp. and compare the effectiveness of each test at detecting the fungus. The permit is valid until July 31, 2021.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: August 9, 2016.
Julia Harrison,
Chief, Permits and Conservation Division, Office of Protected Resources, National Marine Fisheries Service.

[FR Doc. 2016-19296 Filed 8-12-16; 8:45 am]

BILLING CODE 3510-22-P